DEPARTMENT OF AGRICULTURE

Rural Utilities Service

Inviting Applications for Technical Assistance and Training Grants

AGENCY: Rural Development, Rural Utilities Service, USDA.

ACTION: Notice of Solicitation of Applications (NOSA).

SUMMARY: This Notice announces that the Rural Utilities Service (RUS) is accepting applications for the Technical Assistance and Training Grant Program (TAT). RUS is providing an amount of funding to be determined to provide technical assistance and training grants for disaster recovery (TAT/DR) to RUS eligible water and sewer utilities serving areas subject to Presidential disaster declarations in effect on or after the date of this notice which are beyond the scope or capacity of existing grant agreements or contracts with the RUS and do not duplicate other federal assistance to water and sewer utilities in the affected areas. No single award will exceed $600,000 and more than one grant may be made. Expenses incurred in developing applications will be at the applicant's risk. Once funding for TAT has been determined, RUS will publish the program funding level on the Rural Development Web site https://www.rd.usda.gov/programs-services/water-waste-disposal-technical-assistance-training-grants.

DATES: Applications for TAT/DR grant(s) must be received by October 18, 2017. Reminder of competitive grant application deadline: Applications must be submitted electronically through Grants.gov no later than 20 days after this announcement appears in the Federal Register.

ADDRESSES: You may submit electronic grant applications at http://www.grants.gov/ (Grants.gov), following the instructions you find on that Web site.

FOR FURTHER INFORMATION CONTACT: Anita O'Brien, Loan Specialist, Water Program Division, Rural Utilities Service, U.S. Department of Agriculture, by email at anita.obrien@wdc.usda.gov or by telephone: (202) 690-3789.

SUPPLEMENTARY INFORMATION:

Overview

Federal Agency: Rural Utilities Service (RUS).

Funding Opportunity Title: Technical Assistance and Training for Disaster Recovery (TAT/DR).

Announcement Type: Funding Level Announcement and Solicitation of Applications.

Authority: 7 U.S.C. 1926 (a)(14); Pub. L. 109-97, 119 Stat. 2120.

Catalog of Federal Domestic Assistance (CFDA) Number: 10.761.

Dates: You must submit completed application for a TAT/DR grant before October 18, 2017.

Reminder of competitive grant application deadline: Applications must be submitted electronically through Grants.gov no later than 20 days after this announcement appears in the Federal Register to be eligible for funding.

Items in Supplementary Information

I. Funding Opportunity: Brief Introduction to the Technical Assistance and Training for Disaster Recovery (TAT/DR) Grants.

Drinking water and wastewater systems are basic and vital to both health and economic development. With dependable water facilities and environmentally sound waste disposal, rural communities can attract families and businesses that will invest in the community and improve the quality of life for all residents. Without dependable water and wastewater facilities, the communities cannot sustain economic development. RUS supports the sound development of rural communities and the growth of our economy without endangering the environment. RUS provides financial and technical assistance to help communities bring safe drinking water and sanitary, environmentally sound waste disposal facilities to rural Americans in greatest need.

The Technical Assistance and Training (TAT) Grant Program has been established under 7 CFR part 1775 to assist communities with water or wastewater systems through free technical assistance and/or training provided by the grant recipients. Qualified private non-profit organizations will receive TAT grant funds to identify and evaluate solutions to water and waste disposal problems in rural areas, assist applicants in preparing applications for water and waste grants made at the State level offices, and improve operation and maintenance of existing water and waste disposal facilities in rural areas.

II. Federal Award Information: Available funds, maximum amounts; $1,000,000

III. Eligibility Information: Who is eligible, what kinds of projects are eligible, what criteria determine basic eligibility

IV. Application and Submission Information: Where to apply; what constitutes a completed application; how to submit applications; deadlines; and, items that are eligible

V. Application Review Information: Considerations and preferences; scoring criteria; review standards; and selection information

VI. Federal Award Administration Information: Award notice information and award recipient reporting requirements

VII. Agency Contacts: Web, phone, email, and contact name

VIII. USDA Non-Discrimination Statement

I. Funding Opportunity

Drinking water and sewer systems are basic and vital to public health, the environment and economic development. Hurricanes, floods, forest fires and other natural disasters have severely damaged water systems in multiple states. Without dependable water supply, rural communities in these states will not attract families and businesses to return and invest in rural disaster damaged communities.

The Rural Utilities Service (RUS) supports rural prosperity, quality of life, economic development and stewardship of the environment. RUS provides financial and technical assistance to help communities bring safe drinking water and sanitary, environmentally sound waste disposal facilities to rural Americans in greatest need.

The additional funding made available under this notice for TAT/DR grants will allow rural communities to rebuild water and sewer infrastructure damaged by recent disasters and enhance the security of the RUS loan portfolio. Qualified private, non-profit organizations with expertise and a record of experience in providing technical assistance and training to RUS eligible water and sewer utilities may apply to receive a grant to provide technical assistance to RUS eligible water and sewer utilities in areas covered by a Presidential disaster declaration on or after the date of this notice. Grants are for disaster recovery related technical assistance, including such services as helping eligible rural water and sewer utilities complete Federal Emergency Management Administration (FEMA) claims, and file insurance recovery claims, address and cure outstanding delinquencies, and assisting new and returning RUS applicants prepare applications for water and waste disposal loans and grants as needed.

II. Award Information

Available funds: To be determined.

III. Eligibility Information

A. What are the basic eligibility requirements for applying?

An organization is eligible to receive a TAT grant if it:

a. Is a private, non-profit organization that has tax-exempt status from the U.S. Internal Revenue Service (IRS);

b. Is legally established and located within one of the following:

• A state within the United States

• the District of Columbia

• the Commonwealth of Puerto Rico

• a United States territory

c. Has the legal capacity and authority to carry out the grant purpose;

d. Has a proven record of successfully providing technical assistance and/or training to rural areas;

e. Has capitalization acceptable to the Agency, and is composed of at least 51 percent of the outstanding interest or membership being citizens of the United States or individuals who reside in the United States after being legally admitted for permanent residence;

f. Has no delinquent debt to the federal government or no outstanding judgments to repay a federal debt;

g. Demonstrates that it possesses the financial, technical, and managerial capability to comply with federal and State laws and requirements;

h. Contracts with a nonaffiliated organization for not more than 49 percent of the grant to provide the proposed assistance.

(For more specific information see 7 CFR 1775.35.)

The applying entity (Applicant) must:

1. Be a private, national, non-profit organization that has tax-exempt status from the United States Internal Revenue Service (IRS);

2. Be legally established and located within The United States of America;

3. Have the legal capacity and authority to carry out the grant purposes;

4. Have no delinquent debt to the Federal Government or no outstanding judgments to repay a Federal debt;

5. Have proven expertise and experience delivering technical assistance and training to RUS eligible water and sewer utilities.

B. What are the basic eligibility requirements for a project?

The qualified applicant must provide technical assistance to RUS eligible water and sewer utilities in rural areas covered by a Presidential disaster declaration existing on or after the date of this notice on disaster recovery related matters meeting the objectives and purposes of the program under 7 CFR part 1775.

IV. Application and Submission Information

A. Where to get application information: http://www.grants.gov.

B. Applicants will need a Dun and Bradstreet (D&B) Data Universal Numbering System (DUNS) number. You must provide your DUNS number on the SF-424, “Application for Federal Assistance.” To verify that your organization has a DUNS number or to receive one at no cost, call the dedicated toll-free request line at 1-866-705-5711 or access the Web site http://www.dunandbradstreet.com. You will need the following information when requesting a DUNS number:

a. Legal Name of the Applicant;

b. Headquarters name and address of the Applicant;

c. The names under which the Applicant is doing business as (dba) or other name by which the organization is commonly recognized;

d. Physical address of the Applicant;

e. Mailing address (if separate from headquarters and/or physical address) of the Applicant;

f. Telephone number;

g. Contact name and title;

h. Number of employees at the physical location.

C. The application and any materials sent with it become Federal records by law and cannot be returned to you.

D. You must file an electronic application at the Web site: www.grants.gov. You must be registered with Grants.gov before you can submit a grant application. If you have not used Grants.gov before, you will need to register with the Central Contractor Registry (CCR) and the Credential Provider. You will need a DUNS number to access or register at any of the services. The registration processes may take several business days to complete. Follow the instructions at Grants.gov for registering and submitting an electronic application. RUS may request original signatures on electronically submitted documents later.

The CCR registers your organization, housing your organizational information and allowing Grants.gov to use it to verify your identity. You may register for the CCR by calling the CCR Assistance Center at 1-888-227-2423 or you may register online at: http://www.ccr.gov.

The Credential Provider gives you or your representative a username and password, as part of the Federal Government's e-Authentication to ensure a secure transaction. You will need the username and password when you register with Grants.gov or use Grants.gov to submit your application. You must register with the Central Provider through Grants.gov: https://apply.grants.gov/OrcRegister.

E. What constitutes a completed application?

1. To be considered for assistance, you must be an eligible entity and must submit a complete application by the deadline date. You must consult the cost principles and general administrative requirements for grants pertaining to their organizational type in order to prepare the budget and complete other parts of the application. You also must demonstrate compliance (or intent to comply), through certification or other means, with a number of public policy requirements as demonstrated in the forms below.

2. Applicants must complete and submit the following forms to apply for a Technical Assistance and Training grant:

(a) Standard Form 424, “Application for Federal Assistance”

(b) Standard Form 424A, “Budget Information—Non-Construction Programs”

(c) Standard Form 424B, “Assurances—Non-Construction Programs”

(d) Standard Form LLL, “Disclosure of Lobbying Activity”

(e) AD-3030, “Representations Regarding felony Conviction and Tax Delinquent Status for Corporate Applicant”

(f) AD-3031, “Assurance Regarding Felony Conviction or Tax Delinquent Status for Corporate Applicant”

(g) Form RD 400-1, “Equal Opportunity Agreement”

(h) Form RD 400-4, “Assurance Agreement (Under Title VI, Civil Rights Act of 1964)

(i) Indirect Cost Rate Agreement (if applicable, applicant must include approved cost agreement rate schedule)

(j) Certification regarding Forest Service grant.

3. All applications shall be accompanied by the following supporting documentation in concise written narrative form:

(a) Evidence of applicant's legal existence and authority.

(b) Evidence of tax exempt status from the Internal Revenue Service (IRS).

(c) A short statement of applicant's experience in providing services similar to those proposed.

(d) A brief description of successfully completed projects including the need that was identified and objectives accomplished.

(e) The latest financial information to show the applicant's financial capacity to carry out the proposed work.

(f) A list of proposed services to be provided.

(g) An estimated breakdown of costs (direct and indirect) including those to be funded by grantee as well as other sources. Sufficient detail should be provided to permit the approval official to determine reasonableness, applicability, and eligibility.

(h) Evidence that a Financial Management System is in place or proposed.

(i) A description of national reach and capability.

(ii) A description of the type of technical assistance and/or training to be provided and the tasks to be contracted.

(iii) A description of how the effectiveness and results of the proposed TAT/DR project will be measured.

(iv) A clear explanation of how the proposed services differ from other similar services being provided in the same area and measures to be taken to avoid duplication of federal effort.

(v) Number of personnel on staff or to be contracted to provide the service and their experience with similar projects.

(vi) A statement indicating the maximum number of months it would take to complete the project.

(vii) Explanation of the cost effectiveness of project.

4. Applicants must also submit a flexible work plan/project proposal that will outline the project in sufficient detail to provide a reader with a clear understanding of how the proposed TAT/DR project will address the technical assistance needs of RUS eligible water and sewer utilities in affected rural disaster areas that exist at the time of this notice or that may emerge during the term of the grant agreement.

5. The applicant must provide evidence of compliance with other federal statutes, including but not limited to the following:

i. Debarment and suspension information is required in accordance with 2 CFR part 417 (Nonprocurement Debarment and Suspension) supplemented by 2 CFR part 180, if it applies. The section heading is “What information must I provide before entering into a covered transaction with the Federal Government?” located at 2 CFR 180.335. It is part of OMB's Guidance for Grants and Agreements concerning Government-wide Debarment and Suspension.

ii. All of your organization's known workplaces by including the actual address of buildings (or parts of buildings) or other sites where work under the award takes place. Workplace identification is required under the drug-free workplace requirements in Subpart B of 2 CFR part 421, which adopts the Government-wide implementation (2 CFR part 182) of the Drug-Free Workplace Act.

iii. 2 CFR parts 200 and 400 (Uniform Assistance Requirements, Cost Principles and Audit Requirements for Federal Awards).

iv. 2 CFR part 182 (Governmentwide Requirements for Drug-Free Workplace (Financial Assistance)) and 2 CFR part 421 (Requirements for Drug Free Workplace (Financial Assistance)).

v. Executive Order 13166, “Improving Access to Services for Persons with Limited English Proficiency.” For information on limited English proficiency and agency-specific guidance, go to http://www.LEP.gov.

6. Unique entity identifier and System for Award Management (SAM). The applicant for a grant must supply a Dun and Bradstreet Data Universal Numbering System (DUNS) number as part of an application. The Standard Form 424 (SF-424) contains a field for the DUNS number. The applicant can obtain the DUNS number free of charge by calling Dun and Bradstreet. Please see http://fedgov.dnb.com/webform for more information on how to obtain a DUNS number or how to verify your organization's number.

In accordance with 2 CFR part 25, whether applying electronically or by paper, the applicant must register in the System for Award Management (SAM) prior to submitting an application. Applicants may register for the SAM at https://www.sam.gov/portal/SAM/#1. The SAM registration must remain active with current information at all times while RUS is considering an application or while a Federal Grant award or loan is active. To remain registered in the SAM database the applicant must review and update the information in the SAM database annually from date of initial registration or from the date of the last update. The applicant must ensure that the information in the database is current, accurate, and complete.

V. Application Review Information

A. RUS will acknowledge the application's receipt by email to the applicant. The application will be reviewed for completeness to determine if it contains all of the items required. If the application is incomplete or ineligible, RUS will return it to the Applicant with an explanation. The RUS reserves the right to request additional information once an application is determined to be complete to address specific disaster recovery needs that are known or anticipated at the time of evaluation or to minimize the risk of duplication of other federal efforts. The RUS grant offer to a successful applicant will be based on the submitted application and may be more narrowly tailored than the submitted application to meet rural community needs at the time of the offer or over the course of the grant period.

B. A review team, composed of at least two members, will evaluate all applications and proposals. They will make overall recommendations based on factors such as eligibility, application completeness, and conformity to application requirements. They will score the applications based on criteria in paragraph C of this section.

C. All applications that are complete and eligible will be scored and ranked competitively. The categories for scoring criteria used are the following:

Scoring criteria | Points
1. Scope of Assistance | Up to 15.
2. Degree of expertise | Up to 15.
3. Applicant Resource (staff and contract personnel) | Up to 10.
4. Goals/Objectives: Goals/objectives are clearly defined and tied to need, results and measurable outcomes | Up to 10.
5. Extent to which the work plan clearly articulates a well thought out approach to accomplishing objectives; and clearly defines how the applicant would respond to communities served by the TAT/DR grant | Up to 20.
6. Financial Controls | Up to 5.
7. Type of technical assistance applicant is providing | Up to 20.
8. Project duration | Up to 5.

VI. Award Administration Information

A. RUS will rank all qualifying applications by their final score. Applications will be selected for funding based on the highest scores. No grant will exceed $600,000. The agency expects to award a small number of grants under this notice. The agency reserves the right to make no grant awards if all applications are incomplete and/or scorebelow 65 points. Each applicant will be notified via email of the agency's funding decision.

B. In making its decision about your application, RUS may determine that your application is:

1. Eligible and selected for funding;

2. Eligible and offered fewer funds than requested;

3. Eligible but not selected for funding; or

4. Ineligible for the grant.

C. Given the exigency of the need to respond to recent hurricanes, tornados, floods, forest fires and other presidentially declared emergencies, appeals of the funding decisions under this notice shall be made exclusively to the Administrator of the Rural Utilities Service within 10 business days of receiving email notice of the funding decision. The Administrator's decision shall be final and non-reviewable by the National Appeals Division.

D. Applicants selected for funding will complete a grant agreement suitable to RUS, which outlines the terms and conditions of the grant award. Pursuant to the grant agreement, grant funds may be released over the course of the grant period in reimbursement for the performance of eligible, approved activities which do not duplicate similar federal efforts or tasks. The grant agreement may also include reporting and pre-approval requirements consistent with 7 CFR part 1775 which if not met, may result in a delay in reimbursement, disallowance of expense or a suspension of the grant.

E. Grantees will be reimbursed as follows:

1. SF-270, “Request for Advance or Reimbursement,” will be completed by the grantee and submitted to either the State or National Office not more frequently than monthly.

2. Upon receipt of a properly completed SF-270, payment will ordinarily be made within 30 days.

F. Any change in the scope of the project, budget adjustments of more than 10 percent of the total budget, or any other significant change in the project must be reported to and approved by the approval official by written amendment to the Grant Agreement. Any change not approved may be cause for termination of the grant.

G. Project reporting.

1. Grantees shall constantly monitor performance to ensure that time schedules are being met, projected work by time periods is being accomplished, and other performance objectives are being achieved.

2. SF-269, “Financial Status Report (short form),” and a project performance activity report will be required of all grantees on a quarterly basis, due 30 days after the end of each quarter.

3. A final project performance report will be required with the last SF-269 due 90 days after the end of the last quarter in which the project is completed. The final report may serve as the last quarterly report.

4. All grantees are to submit an original of each report to the National Office. The project performance reports should detail, in a narrative format, activities that have transpired for the specific time period.

H. The grantee will provide an audit report or financial statements in accordance with Uniform Audit Requirements for Federal Awards at 2 CFR part 200, subpart F.

VII. Agency Contacts

A. Web site: http://www.usda.gov/rus/water. The RUS' Web site maintains up-to-date resources and contact information for Technical Assistance and Training Grants program.

B. Phone: 202-720-9586.

C. Email: anita.obrien@wdc.usda.gov.

D. Main point of contact: Anita O'Brien, Loan Specialist, Water and Environmental Programs, Water Programs Division, Rural Utilities Service, U.S. Department of Agriculture.

VIII. USDA Non-Discrimination Statement

In accordance with Federal civil rights law and U.S. Department of Agriculture (USDA) civil rights regulations and policies, the USDA, its agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by: (1) Mail: U.S. Department of Agriculture, Office of the Assistant Secretary for Civil Rights, 1400 Independence Avenue SW., Stop 9410, Washington, DC 20250-9410; (2) Fax: (202) 690-7442; or (3) Email: program.intake@usda.gov. USDA is an equal opportunity provider, employer, and lender.

Dated: September 25, 2017.
Christopher A. McLean,
Acting Administrator, Rural Utilities Service.

[FR Doc. 2017-20852 Filed 9-27-17; 8:45 am]

BILLING CODE P